DEPARTMENT OF TRANSPORTATION

Office of the Secretary

Notice of Applications for Certificates of Public Convenience and Necessity and Foreign Air Carrier Permits Filed Under Subpart B (Formerly Subpart Q) During the Week Ending August 18, 2012

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2012-0138.

Date Filed: August 13, 2012.

Due Date for Answers, Conforming Applications, or Motion to Modify Scope: September 4, 2012.

Description: Application of KaiserAir, Inc. (“KaiserAir”) requesting an amended certificate of public convenience and necessity authorizing it to conduct foreign charter air transportation of persons, property and mail. KaiserAir also requests an exemption to conduct such service while this application is pending.

Docket Number: DOT-OST-2012-0144.

Date Filed: August 17, 2012.

Due Date for Answers, Conforming Applications, or Motion to Modify Scope: September 7, 2012.

Description: Application of Air One Executive S.p.A. requesting exemption authority and a foreign air carrier permit authority to engage in the following operations using small aircraft: (a) Foreign charter air transportation of persons, property, and mail from any point or points behind any Member State of the European Community via any point or points in any Member State and via intermediate points to any point or points in the United States and beyond; (b) foreign charter air transportation of persons, property, and mail between any point or points in the United States and any point or points in any Member State of the European Common Aviation Area; (c) foreign charter cargo air transportation between any point or points in the United States and any other point or points; and (d) charter transportation consistent with any future, additional rights that may be granted to foreign air carriers of the Member States of the European Community.

Renee V. Wright,
Program Manager, Docket Operations, Federal Register Liaison.

[FR Doc. 2012-21954 Filed 9-5-12; 8:45 am]

BILLING CODE 4910-9X-P